DEPARTMENT OF HEALTH AND HUMAN SERVICES

Food and Drug Administration

[Docket No. FDA-2011-N-0528]

Food Safety Modernization Act Domestic and Foreign Facility Reinspections, Recall, and Importer Reinspection User Fee Rates for Fiscal Year 2012; Correction

AGENCY: Food and Drug Administration, HHS.

ACTION: Notice; correction.

SUMMARY: The Food and Drug Administration (FDA) is correcting a notice that appeared in the Federal Register of August 1, 2011 (76 FR 45820). The document announced the fiscal year 2012 fee rates for certain domestic and foreign facility reinspections, failure to comply with a recall order, and importer reinspections that are mandated in the FDA Food Safety Modernization Act (FSMA). The document was published with two typographical errors. This document corrects those errors.

FOR FURTHER INFORMATION CONTACT: Amy Waltrip, 12420 Parklawn Dr., Rm. 2012, Rockville, MD 20857, 301-796-8811, e-mail: Amy.Waltrip@fda.hhs.gov.

SUPPLEMENTARY INFORMATION: In FR Doc. FDA-2011-19331, appearing on page 45820 in the Federal Register of Monday, August 1, 2011, the following corrections are made:

1. On page 45822, in the second column, in the first line, “$335” is corrected to read “$325”.

2. On page 45822, in the second column, in “Table 3—FSMA Fee Schedule for FY 2012,” “$335” is corrected to read “$325”.

Dated: August 19, 2011.
Leslie Kux,
Acting Assistant Commissioner for Policy.

[FR Doc. 2011-21895 Filed 8-25-11; 8:45 am]

BILLING CODE 4160-01-P